OFFICE OF THE UNITED STATES TRADE REPRESENTATIVE

Reallocation of Unused Fiscal Year 2020 Tariff-Rate Quota Volume for Raw Cane Sugar

AGENCY: Office of the United States Trade Representative.

ACTION: Notice.

SUMMARY: The Office of the U.S. Trade Representative (USTR) is announcing the country-by-country reallocations of the fiscal year (FY) 2020 in-quota quantity of the World Trade Organization (WTO) tariff-rate quota (TRQ) for imported raw cane sugar.

DATES: This notice is applicable on February 7, 2020.

FOR FURTHER INFORMATION CONTACT: Dylan Daniels, Office of Agricultural Affairs at 202-395-6095 or Dylan.T.Daniels@ustr.eop.gov.

SUPPLEMENTARY INFORMATION: Pursuant to Additional U.S. Note 5 to Chapter 17 of the Harmonized Tariff Schedule of the United States (HTSUS), the United States maintains WTO TRQs for imports of raw cane and refined sugar.

Section 404(d)(3) of the Uruguay Round Agreements Act (19 U.S.C. 3601(d)(3)) authorizes the President to allocate the in-quota quantity of a TRQ for any agricultural product among supplying countries or customs areas. The President delegated this authority to the U.S. Trade Representative under Presidential Proclamation 6763 (60 FR 1007).

On June 27, 2019, the Secretary of Agriculture established the FY 2020 TRQ for imported raw cane sugar at the minimum to which the United States committed pursuant to the WTO Uruguay Round Agreements (1,117,195 metric tons raw value (MTRV)). On July 15, 2019, USTR provided notice of country-by-country allocations of the FY 2020 in-quota quantity of the WTO TRQ for imported raw cane sugar. Based on consultation with quota holders, USTR has determined to reallocate 78,071 MTRV of the original TRQ quantity from those countries that stated they do not plan to fill their FY 2020 allocated raw cane sugar quantities. USTR is allocating the 78,071 MTRV to the following countries in the amounts specified below:

Country | FY 2020 raw sugar unused reallocation (MTRV)
Argentina | 4,006
Australia | 7,733
Barbados | 652
Belize | 1,025
Bolivia | 745
Brazil | 13,509
Colombia | 2,236
Costa Rica | 1,397
Dominican Republic | 16,397
Ecuador | 1,025
El Salvador | 2,422
Eswatini (Swaziland) | 1,490
Fiji | 838
Guatemala | 4,472
Guyana | 1,118
Honduras | 932
India | 745
Jamaica | 1,025
Malawi | 932
Mauritius | 1,118
Mozambique | 1,211
Nicaragua | 1,956
Panama | 2,702
Peru | 3,820
South Africa | 2,143
Thailand | 1,304
Zimbabwe | 1,118

USTR based these allocations on the countries' historical shipments to the United States. The allocations of the raw cane sugar WTO TRQ to countries that are net importers of sugar are conditioned on receipt of the appropriate verifications of origin and certificates for quota eligibility must accompany imports from any country for which an allocation has been provided.

Conversion factor: 1 metric ton = 1.10231125 short tons.

Gregory Doud,
Chief Agricultural Negotiator, Office of the United States Trade Representative.

[FR Doc. 2020-02411 Filed 2-6-20; 8:45 am]

BILLING CODE 3290-F0-P